DEPARTMENT OF HEALTH AND HUMAN SERVICES

Centers for Disease Control and Prevention

The Board of Scientific Counselors, National Center for Environmental Health/Agency for Toxic Substances and Disease Registry (NCEH/ATSDR): Meeting

In accordance with section 10(a)(2) of the Federal Advisory Committee Act (Pub. L. 92-463), CDC and NCEH/ATSDR announce the following committee meeting:

Times and Dates:

8:30 a.m.-3:15 p.m., November 15, 2007.

8:30 a.m.-11:15 a.m., November 16, 2007.

Place: CDC, 4770 Buford Highway, Chamblee, Georgia 30341.

Status: Open to the public, limited only by the space available. The meeting room accommodates approximately 75 people.

Purpose: The Secretary, Department of Health and Human Services (HHS) and by delegation, the Director, CDC, and Administrator, NCEH/ATSDR, are authorized under Section 301(42 U.S.C. 241) and Section 311 (42 U.S.C. 243) of the Public Health Service Act, as amended, to: (1) Conduct, encourage, cooperate with, and assist other appropriate public authorities, scientific institutions, and scientists in the conduct of research, investigations, experiments, demonstrations, and studies relating to the causes, diagnosis, treatment, control, and prevention of physical and mental diseases and other impairments; (2) assist states and their political subdivisions in the prevention of infectious diseases and other preventable conditions and in the promotion of health and well being; and (3) train state and local personnel in health work. The BSC, NCEH/ATSDR provides advice and guidance to the Secretary, HHS; the Director, CDC, and Administrator, ATSDR; and the Director, NCEH/ATSDR, regarding program goals, objectives, strategies, and priorities in fulfillment of the agency's mission to protect and promote people's health. The board provides advice and guidance that will assist NCEH/ATSDR in ensuring scientific quality, timeliness, utility, and dissemination of results. The board also provides guidance to help NCEH/ATSDR work more efficiently and effectively with its various constituents and to fulfill its mission in protecting America's health.

Matters To Be Discussed: An update on NCEH/ATSDR's Office of the Director, update on CDC Goals and Goal Action Plans, presentation on Formaldehyde and temporary housing units, presentation on NCEH and Top Off IV Exercise, update on ATSDR Response to BSC Program Peer Review: ATSDR Site-Specific Activities, presentation on Pandemic Flu and NCEH Laboratory Science, discussion on developing a national plan for chemical safety, and discussion on the BSC organizational and operational structure: subcommittees and/or workgroups.

Agenda items are tentative and subject to change.

The deadline for notification of attendance is November 5, 2007.

Contact Person for More Information: Sandra Malcom, Committee Management Specialist, NCEH/ATSDR, 1600 Clifton Road, Mail Stop E-28, Atlanta, Georgia 30303. Telephone (770) 488-4461, Fax (404) 498-0622, E-mail: smalcom@cdc.gov.

The Director, Management Analysis and Services Office, has been delegated the authority to sign Federal Register notices pertaining to announcements of meetings and other committee management activities for both CDC and the Agency for Toxic Substance and Disease Registry.

Dated: October 11, 2007.
Elaine L. Baker,
Acting Director, Management Analysis and Services Office, Centers for Disease Control and Prevention (CDC).

[FR Doc. E7-20629 Filed 10-18-07; 8:45 am]

BILLING CODE 4163-18-P